DEPARTMENT OF COMMERCE

Submission for OMB Review; Comment Request

The Department of Commerce will submit to the Office of Management and Budget (OMB) for clearance the following proposal for collection of information under the provisions of the Paperwork Reduction Act (44 U.S.C. Chapter 35).

Agency: Economic Development Administration (EDA).

Title: Property Management.

OMB Control Number: 0610-0103.

Form Number(s): None.

Type of Request: Regular submission.

Number of Respondents: 150.

Average Hours per Response: 2 hours and 45 minutes.

Burden Hours: 413.

Needs and Uses: An investment assistance recipient must request, in writing, EDA's approval to undertake an incidental use of property acquired or improved with EDA investment assistance. This collection of information allows EDA to determine whether an incidental use of property acquired or improved with EDA investment assistance is appropriate. If a recipient wishes for EDA to release its real property or tangible personal property interests before the expiration of the property's estimated useful life, the recipient must submit a written request to EDA and disclose to EDA the intended future use of the real property or the tangible personal property for which the release is requested. This collection of information allows EDA to determine whether to release its real property or tangible personal property interests.

Affected Public: State and local governments; Indian Tribes; institutions of higher education; not-for-profit institutions; business or other for-profit organizations; individuals or households.

Frequency: On occasion.

Respondent's Obligation: Voluntary.

OMB Desk Officer: Sharon Mar, (202) 395-6466.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to Sharon Mar, OMB Desk Officer, FAX number (202) 395-5167, or Sharon_Mar@omb.eop.gov.

Dated: May 22, 2009.
Gwellnar Banks,
Management Analyst, Office of the Chief Information Officer.

[FR Doc. E9-12356 Filed 5-27-09; 8:45 am]

BILLING CODE 3510-34-P